DEPARTMENT OF HOMELAND SECURITY

Federal Emergency Management Agency

[Docket ID FEMA-2019-0002; Internal Agency Docket No. FEMA-B-1913]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Phoenix (18-09-0732P). | The Honorable Thelda Williams, Mayor, City of Phoenix, City Hall, 200 West Washington Street, Phoenix, AZ 85003. | Street Transportation Department, 200 West Washington Street, 5th Floor, Phoenix, AZ 85003. | https://msc.fema.gov/portal/advanceSearch. | Jun. 14, 2019 | 040051
Maricopa | City of Scottsdale (18-09-0732P). | The Honorable W.J. “Jim” Lane, Mayor, City of Scottsdale, 3939 North Drinkwater Boulevard, Scottsdale, AZ 85251. | Planning Records, 7447 East Indian School Road, Suite 100, Scottsdale, AZ 85251. | https://msc.fema.gov/portal/advanceSearch. | Jun. 14, 2019 | 045012
Pinal | Unincorporated Areas of Pinal County (18-09-1787P). | The Honorable Todd House, Chairman, Board of Supervisors, Pinal County, P.O. Box 827, Florence, AZ 85132. | Pinal County Engineering Division, 31 North Pinal Street Building F, Florence, AZ 85132. | https://msc.fema.gov/portal/advanceSearch. | Jun. 14, 2019 | 040077
Yavapai | Town of Chino Valley (18-09-2295P). | The Honorable Darryl L. Croft, Mayor, Town of Chino Valley, Town Hall, 202 North State Route 89, Chino Valley, AZ 86323. | Development Services Department, 1982 Voss Drive, Chino Valley, AZ 86323. | https://msc.fema.gov/portal/advanceSearch. | Jun. 14, 2019 | 040094
California:
Kings | UnincorporatedAreas of Kings County (18-09-1578P). | The Honorable Richard Valle, Chairman, Board of Supervisors, Kings County, 1400 West Lacey Boulevard, Hanford, CA 93230. | Kings County Community Development Agency, 1400 West Lacey Boulevard, Building 6, Hanford, CA 93230. | https://msc.fema.gov/portal/advanceSearch. | Jun. 17 2019 | 060086
Los Angeles | Unincorporated Areas of Los Angeles County (18-09-1767P). | The Honorable Mark Ridley-Thomas, Chairman, Board of Supervisors, Los Angeles County, 500 West Temple Street, Room 358, Los Angeles, CA 90012. | Los Angeles County, Public Works Headquarters, Watershed Management Division, 900 South Fremont Avenue, Alhambra, CA 91803. | https://msc.fema.gov/portal/advanceSearch. | Jun. 13, 2019 | 065043
Riverside | City of Beaumont (18-09-1668P). | The Honorable Nancy Carroll, Mayor, City of Beaumont, 550 East 6th Street, Beaumont, CA 92223. | Civic and Community Center, 550 East 6th Street, Beamont, CA 92223. | https://msc.fema.gov/portal/advanceSearch. | Jun. 12, 2019 | 060247
San Diego | Unincorporated Areas of San Diego County (18-09-1141P). | The Honorable Kristin Gaspar, Chair, Board of Supervisors, San Diego County, 1600 Pacific Highway, Room 335, San Diego, CA 92101. | San Diego County, Flood Control District, Department of Public Works, 5510 Overland Avenue, Suite 410, San Diego, CA 92123. | https://msc.fema.gov/portal/advanceSearch. | Jun. 11, 2019 | 060284
Trinity | Unincorporated Areas of Trinity County (18-09-1648P). | The Honorable Keith Groves, Chairman, Board of Supervisors, Trinity County, 11 Court Street, Room 230, Weaverville, CA 96093. | Trinity County Planning Department, 61 Airport Road, Weaverville, CA 96093. | https://msc.fema.gov/portal/advanceSearch. | Jun. 13, 2019 | 060401
Florida: Bay | Unincorporated Areas of Bay County (18-04-5961P). | Mr. Robert Majka, Jr., County Manager, Bay County, 840 West 11th Street, Panama City, FL 32401. | Bay County Planning and Zoning, 707 Jenks Avenue, Suite B, Panama City, FL 32401. | https://msc.fema.gov/portal/advanceSearch. | Jun. 14, 2019 | 120004
Illinois:
Jackson | Unincorporated Areas of Jackson County (18-05-4175P). | The Honorable John S. Rendleman, Chairman, Jackson County Board, Jackson County Courthouse, 1001 Walnut Street, Murphysboro, IL 62966. | Jackson County Assessment Office, 20 South 10th Street, Murphysboro, IL 62966. | https://msc.fema.gov/portal/advanceSearch. | Jun. 12, 2019 | 170927
Jackson | Village of Dowell (18-05-4175P). | The Honorable Charles D. Horn, Village President, Village of Dowell, P.O. Box 92, Dowell, IL 62927. | Village Hall, 213 Union Avenue, Dowell, IL 62927. | https://msc.fema.gov/portal/advanceSearch. | Jun. 12, 2019 | 170875
Indiana: Marion | City of Indianapolis (19-05-0008P) | The Honorable Joe Hogsett, Mayor, City of Indianapolis, City-County Building, 200 East Washington Street, Suite 2501, Indianapolis, IN 46204. | City-County Building, 200 East Washington Street, Suite 1842, Indianapolis, IN 46204. | https://msc.fema.gov/portal/advanceSearch. | Jun. 21, 2019 | 180159
Kansas: Johnson | City of Lenexa (18-07-1738P). | The Honorable Michael Boehm, Mayor, City of Lenexa, 8522 Caenen Lake Court Lenexa, KS 66215. | City Hall, 12350 West 87th Street Parkway, Lenexa, KS 66215. | https://msc.fema.gov/portal/advanceSearch. | May 15, 2019 | 200168
Michigan: Oakland | City of Rochester (18-05-2400P). | The Honorable Rob Ray Mayor, City of Rochester, Rochester City Hall, 400 6th Street, Rochester, MI 48307. | City Hall, 400 6th Street, Rochester, MI 48307. | https://msc.fema.gov/portal/advanceSearch. | Jun. 14, 2019 | 260326
Missouri: Jackson | City of Lee's Summit (18-07-0912P). | The Honorable Bill Baird, Mayor, City of Lee's Summit, 220 Southeast Green Street, Lee's Summit, MO 64063. | Mayor's Office, 207 Southwest Market Street, Lee's Summit, MO 64063. | https://msc.fema.gov/portal/advanceSearch. | Jun. 13, 2019 | 290174
Nebraska:
Douglas | City of Omaha (18-07-0801P). | The Honorable Jean Stothert, Mayor, City of Omaha, Office of The Mayor, 1819 Farnam Street, Suite 300, Omaha, NE 68183. | Civic Center, 1819 Farnam Street, Omaha, NE 68183. | https://msc.fema.gov/portal/advanceSearch. | Jun. 20, 2019 | 315274
Lancaster | City of Waverly (18-07-0490P). | The Honorable Mike Werner, Mayor, City of Waverly, City Hall, P.O. Box 427, Waverly, NE 68462. | City Hall, 14130 Lancashire, Waverly, NE 68462. | https://msc.fema.gov/portal/advanceSearch. | Apr. 26, 2019 | 310140
Nevada: Clark | City of Henderson (18-09-2045P). | The Honorable Debra March, Mayor, City of Henderson, 240 South Water Street, Henderson, NV 89015. | Public Works Department, 240 South Water Street, Henderson, NV 89015. | https://msc.fema.gov/portal/advanceSearch. | Jun. 11, 2019 | 320005
Ohio:
Fairfield | City of Lancaster (18-05-6407P). | The Honorable David S. Smith, Mayor, City of Lancaster, 104 East Main Street, Room 101, Lancaster, OH 43130. | Municipal Building, 121 East Chestnut Street, Suite 100, Lancaster, OH 43130. | https://msc.fema.gov/portal/advanceSearch. | Jun. 17, 2019 | 390161
Lake | Unincorporated Areas of Lake County (18-05-2719P). | Mr. John R. Hamercheck, Commissioner, Lake County, 105 Main Street, 4th Floor, Painesville, OH 44077. | Lake County Engineer's Office, 550 Blackbrook Road, Painesville, OH 44077. | https://msc.fema.gov/portal/advanceSearch. | Jun. 19, 2019 | 390771
South Carolina: Richland | Unincorporated Areas of Richland County (18-04-5530P). | The Honorable Joyce Dickerson, Chair, Richland County Council, 2020 Hampton Street, Columbia, SC 29201 | Richland County, Department of Public Works, 400 Powell Street, Columbia, SC 29203. | https://msc.fema.gov/portal/advanceSearch. | Jun. 17, 2019 | 450170
Wisconsin: Sheboygan | Unincorporated Areas of Sheboygan County (19-05-0048P). | Mr. Roger L. Te Stroete, County Board Supervisor, Sheboygan County, 508 New York Avenue, 3rd Floor, Room 311, Sheboygan, WI 53081. | Sheboygan County, Administration Building, 508 New York Avenue, Sheboygan, WI 53081. | https://msc.fema.gov/portal/advanceSearch. | May 14, 2019 | 550424

[FR Doc. 2019-05105 Filed 3-18-19; 8:45 am]

BILLING CODE 9110-12-P